DEPARTMENT OF TRANSPORTATION

Federal Aviation Administration

14 CFR Part 71

[Docket No. FAA-2003-19053; Airspace Docket No. 04-ANM-10]

RIN 2120-AA66

Revision of VOR Federal Airway 208

AGENCY: Federal Aviation Administration (FAA), DOT.

ACTION: Final rule.

SUMMARY: This action modifies Federal Airway 208 (V-208) by changing the originating point of the airway from the Santa Catalina, CA, Very High Frequency Omnidirectional Range/Tactical Air Navigation (VORTAC) to the Ventura, CA, VORTAC. This modification extends V-208 by incorporating a route segment that air traffic control (ATC) frequently assigns to aircraft arriving in the Los Angeles, CA, terminal area. This action will enhance air safety, simplify routings, and reduce controller workload in the Southern California area.

EFFECTIVE DATES: 0901 UTC, July 7, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On October 28, 2004, the FAA published in the Federal Register a notice proposing to revise V-208 between the Ventura, CA, VORTAC and the Santa Catalina, CA, VORTAC (69 FR 62832). Interested parties were invited to participate in this rulemaking effort by submitting written comments on the proposal. One comment was received in support of the proposal as long as the airway is charted prior to use as an airway. We agree with the comment. The airway will be effective concurrent with charting. With the exception of editorial changes, this amendment is the same as that proposed in the notice.

The Rule

This action amends Title 14 Code of Federal Regulations (14 CFR) part 71 (part 71) to modify V-208 by changing the originating point of the airway from the Santa Catalina, CA, VORTAC to the Ventura, CA, VORTAC. The revision incorporates a routing that is currently issued by ATC when managing aircraft in the Los Angeles, CA, terminal area. Extending V-208 as described above will significantly reduce pilot-controller communications, alleviate radio frequency congestion, reduce the potential for pilot readback errors, and enhance the management of aircraft operations in the Southern California area.

Domestic VOR Federal airways are published in paragraph 6010(a) of FAA Order 7400.9M dated August 30, 2004, and effective September 16, 2004, which is incorporated by reference in 14 CFR 71.1. The domestic VOR Federal airway listed in this document will be published subsequently in the order.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 6010(a) Domestic VOR Federal Airways

* * * * *

V-208 [Revised]

From Ventura, CA; INT Ventura, 175° and Santa Catalina 310° radials; Santa Catalina, CA; Oceanside, CA; Julian, CA; Thermal, CA; Twentynine Palms, CA; 20 miles, 24 miles 73 MSL, Needles, CA; Peach Springs, AZ; Grand Canyon, AZ; INT Grand Canyon 095° and Tuba City, AZ, 246° radials; Tuba City; Page, AZ; Hanksville, UT; Carbon, UT; Myton, UT; 79 MSL, Vernal, UT, 25 miles, 105 MSL, Cherokee, WY. The airspace within R-2503 and the airspace below 2,000 feet MSL outside the United States is excluded. The portion outside the United States has no upper limit.

* * * * *

Issued in Washington, DC, April 21, 2005.
Edith V. Parish,
Acting Manager, Airspace and Rules.

[FR Doc. 05-8536 Filed 4-28-05; 8:45 am]

BILLING CODE 4910-13-P